DEPARTMENT OF COMMERCE

National Oceanic and Atmospheric Administration

50 CFR Part 660

[Docket No. 031125290-4058-02; I.D. 090304A]

RIN 0648-AQ97

Fisheries Off West Coast States and in the Western Pacific; Coastal Pelagic Species Fisheries; Reallocation of Pacific Sardine

AGENCY: National Marine Fisheries Service (NMFS), National Oceanic and Atmospheric Administration (NOAA), Commerce.

ACTION: Reallocation of Pacific sardine.

SUMMARY: NMFS announces the reallocation of the remaining Pacific sardine harvest guideline in the exclusive economic zone off the Pacific coast. On September 1, 2004, 68,009 metric tons (mt) of the 122,747-mt harvest guideline were estimated to remain unharvested. The Coastal Pelagics Species Fishery Management Plan (FMP) requires that a review of the fishery be conducted and any uncaught portion of the harvest guideline remaining unharvested in Subarea A (north of Pt. Arena, CA) and Subarea B (south of Pt. Arena, CA) be added together and reallocated, with 20 percent allocated to Subarea A and 80 percent to Subarea B; therefore, 13,602 mt is allocated to Subarea A and 54,407 mt is allocated to Subarea B. The intended effect of this action is to ensure that a sufficient amount of the resource is available to all harvesters on the Pacific coast and to achieve optimum yield.

DATES: Effective September 8, 2004, through December 31, 2004.

FOR FURTHER INFORMATION CONTACT: Tonya L. Wick, Southwest Region, NMFS, 562-980-4036.

SUPPLEMENTARY INFORMATION: On February 25, 2004, NMFS published notice of a harvest guideline of 122,747 mt for Pacific sardine in the Federal Register (69 FR 8572) for the fishing season January 1, 2004, through December 31, 2004. The harvest guideline was allocated as specified in the FMP, that is, one-third (40,916 mt) for Subarea A, which is north of 39°00′00″ N. lat. (Pt. Arena, CA) to the Canadian border; and two-thirds (81,831 mt)for Subarea B, which is south of 39°00′00″ N. lat. to the Mexican border.

On August 26, 2003, a regulatory amendment to the FMP developed by the Pacific Fishery Management Council (Council) was approved, and a final rule implementing the amendment was published in the Federal Register on September 5, 2003 (68 FR 52523). The amendment: (1) changed the definition of Subarea A and Subarea B by moving the geographic boundary between the two areas from Pt. Piedras Blancas at 35°40′00″ N. lat. to Pt. Arena at 39°00′'00″ N. lat.; (2) changed the date when Pacific sardine that remain unharvested are reallocated to Subarea A and Subarea B from October 1 to September 1; (3) changed the percentage of the unharvested sardine that is reallocated to Subarea A and Subarea B from 50 percent to both subareas to 20 percent to Subarea A and 80 percent to Subarea B; and (4) reallocated all unharvested sardine that remain on December 1 coast wide.

Landings in the Pacific Northwest in 2004 have been above the landings for the same period during the 2003 fishing season. Landings by September 1 in Subarea A north of Pt. Arena were estimated at 30,919 mt; therefore, 9,997 mt of the initial allocation to Subarea A of 40,916 mt remained unharvested. Landings in California have been below landings for the same period in 2003. Landings by September 1 in Subarea B south of Pt. Arena were estimated at 23,819 mt; therefore, 58,012 mt of the initial allocation to Subarea B of 81,831 remained unharvested. Based on this information, a total of 68,009 mt of the 122,747-mt harvest guideline remained unharvested on September 1, 2004. Therefore, according to the requirements of the FMP, as amended, 20 percent of 68,009 mt (13,602 mt) is allocated to Subarea A, and 80 percent of 68,009 mt (54,407 mt) is allocated to Subarea B.

Any portion of 122,747 mt harvest guideline that remains unharvested in Subarea A and Subarea B on December 1, 2004, will be available for harvest coast-wide until the 122,747-mt harvest guideline is reached and the fishery is closed.

Classification

This action is authorized by the FMP in accordance with 50 CFR 660.517 and is exempt from review under Executive Order 12866.

The Assistant Administrator for Fisheries, NOAA (AA) finds for good cause under 5 U.S.C. 553(b)(B) that providing prior notice and an opportunity for public comment on this action is unnecessary because redistribution of the harvest guideline is a ministerial act required by the FMP to ensure that all harvesters have access to the resource. This action relieves potential restrictions on those affected by Federal regulations, and affording additional notice and comment would impede the agency's ability to manage Pacific sardine. Accordingly, providing prior notice and an opportunity for public comment would serve no useful purpose.

Because this rule merely provides a redistribution of a harvest guideline to meet the requirements of the FMP and does not require any participants in the fishery to take action or to come into compliance, the AA finds for good cause under 5 U.S.C. 553(d)(3) that delaying the effective date of this rule for 30 days is unnecessary.

Because prior notice and opportunity for public comment are not required for this action by 5 U.S.C. 553, or any other law, the analytical requirements of the Regulatory Flexibility Act, 5 U.S.C. 601 et seq., are not applicable.

Authority: 16 U.S.C. 1801 et seq.

Dated: September 7, 2004.
Alan D. Risenhoover,
Acting Director, Office of Sustainable Fisheries, National Marine Fisheries Service.

[FR Doc. 04-20615 Filed 9-8-04; 3:56 pm]

BILLING CODE 3510-22-S